DEPARTMENT OF EDUCATION

National Advisory Committee on Institutional Quality and Integrity

AGENCY: Department of Education, Office of Postsecondary Education.

ACTION: Notice of Reestablishment of the National Advisory Committee on Institutional Quality and Integrity (NACIQI).

SUMMARY: The U.S. Secretary of Education (Secretary) announces the reestablishment of the NACIQI. The Federal Advisory Committee Act (FACA) (Pub. L. 92-463, as amended; 5 U.S.C.A., Appendix 2), except for section 14 of FACA, will govern the NACIQI.

Purpose: The charter for the NACIQI has expired. The Secretary needs to reestablish the NACIQI as provided for in section 106 of the Higher Education Opportunity Act (HEOA), Public Law 110-315, 122 Stat. 3078 et seq. The HEOA amended section 114 of the Higher Education Act of 1965, as amended (HEA), establishing the NACIQI. The revised NACIQI charter incorporates the changes outlined in the HEOA, including:

• Committee structure—number of members.

• Member appointments—nominating sources, qualifications, length of terms, and timing (including the timing of the notices to be published soliciting nominations for the positions to be filled by the Secretary).

• Selection of the chairperson.

• Meetings—agenda, Secretary's designee, and timing of Federal Register meeting notices.

• Reports—timing, review, and distribution of the annual report.

Sections 101(c) and 487(c)(4)of the HEA, and section 801(6) of the Public Health Service Act, 42 U.S.C. 296(6), require the Secretary to publish lists of State approval agencies, nationally recognized accrediting agencies, and State approval and accrediting agencies for programs of nurse education, that the Secretary determines to be reliable authorities as to the quality of education provided by the institutions and programs they accredit. Eligibility of higher education institutions and programs for participation in various Federal assistance programs requires accreditation by an agency listed by the Secretary. The NACIQI advises the Secretary in the discharge of these and other functions, as follows:

1. Advises the Secretary with respect to the establishment and enforcement of the standards of accrediting agencies or associations under subpart 2 of part H of Title IV, HEA;

2. Advises the Secretary with respect to the recognition of a specific accrediting agency or association;

3. Advises the Secretary with respect to the preparation and publication of the list of nationally recognized accrediting agencies and associations;

4. Advises the Secretary with respect to the eligibility and certification process for institutions of higher education under Title IV, HEA, together with recommendations for improvements in such process;

5. Advises the Secretary with respect to the relationship between—

A. Accreditation of institutions of higher education and the certification and eligibility of such institutions; and

B. State licensing responsibilities with respect to such institutions;

6. Carries out such other advisory functions relating to accreditation and institutional eligibility as the Secretary may prescribe by regulation.

For Additional Information Contact: U.S. Department of Education, White House Liaison Office, Washington, DC 20202, telephone: (202) 401-3677.

The official version of this document is the document published in the Federal Register. Free Internet access to the official edition of the Federal Register and the Code of Federal Regulations is available on GPO Access at: http://www.gpoaccess.gov/nara/index.html.

Arne Duncan,
Secretary of Education.

[FR Doc. E9-24293 Filed 10-7-09; 8:45 am]

BILLING CODE 4000-01-P